DEPARTMENT OF ENERGY

Federal Energy Regulatory Commission

[Project No. 308-005]

PacifiCorp Energy; Notice of Proposed Restricted Service List for a Programmatic Agreement for Managing Properties Included in or Eligible for Inclusion in the National Register of Historic Places

Rule 2010 of the Federal Energy Regulatory Commission's (Commission) Rules of Practice and Procedure provides that, to eliminate unnecessary expense or improve administrative efficiency, the Secretary may establish a restricted service list for a particular phase or issue in a proceeding.¹ The restricted service list should contain the names of persons on the service list who, in the judgment of the decisional authority establishing the list, are active participants with respect to the phase or issue in the proceeding for which the list is established.

¹ 18 CFR section 385.2010.

Commission staff is consulting with the Oregon State Historic Preservation Officer (hereinafter, Oregon SHPO), and the Advisory Council on Historic Preservation (hereinafter, Council) pursuant to the Council's regulations, 36 CFR part 800, implementing section 106 of the National Historic Preservation Act, as amended, (16 U.S.C. section 470 f), to prepare and execute a programmatic agreement for managing properties included in, or eligible for inclusion in, the National Register of Historic Places at the Wallowa Falls Hydroelectric Project No. 308.

The programmatic agreement, when executed by the Commission and the Oregon SHPO would satisfy the Commission's section 106 responsibilities for all individual undertakings carried out in accordance with the license until the license expires or is terminated (36 CFR 800.13[e]). The Commission's responsibilities pursuant to section 106 for the Wallowa Falls Hydroelectric Project would be fulfilled through the programmatic agreement, which the Commission proposes to draft in consultation with certain parties listed below. The executed programmatic agreement would be incorporated into any Order issuing a license.

PacifiCorp Energy, as licensee for the Wallowa Falls Project No. 308, and the Nez Perce Tribe, Confederated Tribes of Umatilla Indian Reservation, Confederate Tribes of the Colville Reservation, and Wallowa-Whitman National Forest have expressed an interest in this preceding and are invited to participate in consultations to develop the programmatic agreement.

For purposes of commenting on the programmatic agreement, we propose to restrict the service list for the aforementioned project as follows:

John Eddins or Representative, Office of Planning and Review, Advisory Council on Historic Preservation, 1100 Pennsylvania Ave., NW., Suite 809, Washington, DC 20004 | Keith Patrick Baird, THPO, Cultural Resources Program, Nez Perce Tribe, P.O. Box 365, Lapwai, ID 83540-0365. Russ Howison or Representative, PacifiCorp Energy, 825 NE Mult-
Anthony King or Representative, Wallowa-Whitman National Forest, 201 E. 2nd Street, Joseph, OR 97846 | nomah, Suite 1500, Portland, OR 97232. John Pouley or Representative Oregon Parks and Recreation Depart-
Catherine Dickson or Representative, Cultural Resources Protection Program, Confederated Tribes of the Umatilla Indian Reservation, 46411 Timine Way, Pendleton, Oregon 97801 | ment Summer St., NE., Suite C Salem, OR 97301.
Arrow Coyote or Representative, Confederate Tribes of the Colville Reserv., P.O. Box 150, Nespelem, WA 99155 |

Any person on the official service list for the above-captioned proceeding may request inclusion on the restricted service list, or may request that a restricted service list not be established, by filing a motion to that effect within 15 days of this notice date. In a request for inclusion, please identify the reason(s) why there is an interest to be included. Also please identify any concerns about historic properties, including Traditional Cultural Properties. If historic properties are to be identified within the motion, please use a separate page, and label it NON-PUBLIC Information.

Any such motions may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street NE., Washington, DC 20426. Please put the project number (P-308-005) on the first page of the filing.

If no such motions are filed, the restricted service list will be effective at the end of the 15 day period. Otherwise, a further notice will be issued ruling on any motion or motions filed within the 15 day period.

Dated: May 3, 2012.
Kimberly D. Bose,
Secretary.

[FR Doc. 2012-11362 Filed 5-10-12; 8:45 am]

BILLING CODE 6717-01-P